DEPARTMENT OF COMMERCE

International Trade Administration

[A-570-804]

Sparklers From the People's Republic of China; Notice of Final Results of Expedited Sunset Review of Antidumping Duty Order

AGENCY: Import Administration, International Trade Administration, Department of Commerce.

SUMMARY: On June 1, 2005, the Department of Commerce (“the Department”) initiated the sunset review of the antidumping duty order on sparklers from the People's Republic of China (“China”) pursuant to section 751(c) of the Tariff Act of 1930, as amended (“the Act”). On the basis of Notices of Intent to Participate, adequate substantive responses filed on behalf of domestic interested parties, and lack of response from respondent interested parties, the Department conducted an expedited (120-day) sunset review. As a result of this sunset review, the Department finds that revocation of the antidumping duty order would be likely to lead to continuation or recurrence of dumping. The dumping margins likely to prevail if the order were revoked are identified in the Final Results of Review section of this notice.

DATES: October 6, 2005.

FOR FURTHER INFORMATION: Maureen Flannery, AD/CVD Operations, Office 8, International Trade Administration, U.S. Department of Commerce, 14th Street & Constitution Avenue, NW., Washington, DC 20230; telephone: (202) 482-3020.

SUPPLEMENTARY INFORMATION:

Background

On June 1, 2005, the Department published the notice of initiation of the sunset review of the antidumping duty order on sparklers from China. See Initiation of Five-Year (“Sunset”) Reviews, 70 FR 31423 (June 1, 2005). On June 8, 2005 and June 16, 2005, the Department received Notices of Intent to Participate from Diamond Sparkler Manufacturing Company and Elkton Sparkler Company (collectively “domestic interested parties”) within the deadline specified in section 351.218(d)(1)(i) of the Department's regulations. The domestic interested parties claimed interested party status under section 771(9)(C) of the Act, as a manufacturer, producer, or wholesaler in the United States of a domestic like product. On June 22, 2005, and July 1, 2005, the Department received complete substantive responses from the domestic interested parties within the deadline specified in section 351.218(d)(3)(i) of the Department's regulations. We did not receive a response from any respondent interested party to this proceeding. As a result, pursuant to section 751(c)(3)(B) of the Act and section 351.218(e)(1)(ii)(C)(2) of the Department's regulations, the Department conducted an expedited review of this order.

Scope of the Order

The products subject to this order are fireworks each comprising a cut-to-length wire, one end of which is coated with a chemical mix that emits bright sparks while burning. Sparklers are currently classified under subheadings 3604.10.10.00, 3604.10.90.10, and 3604.10.90.50 of the Harmonized Tariff Schedule of the United States (“HTSUS”). Sparklers were formerly classified under HTSUS subcategory 3604.10.00. The Department has reviewed current categories and has determined that sparklers are currently classified in the above subcategories. Although HTSUS subheadings are provided for convenience and customs purposes, the written description of the merchandise under the order is dispositive.

Analysis of Comments Received

All issues raised in this review are addressed in the “Issues and Decision Memorandum” (“Decision Memo”) from Barbara E. Tillman, Acting Deputy Assistant Secretary for Import Administration, to Joseph A. Spetrini, Acting Assistant Secretary for Import Administration, dated September 29, 2005, which is hereby adopted by this notice. The issues discussed in the Decision Memo include the likelihood of continuation or recurrence of dumping and the magnitude of the margins likely to prevail if the order were revoked. Parties can find a complete discussion of all issues raised in this review and the corresponding recommendations in this public memorandum which is on file in room B-099 of the main Commerce building.

In addition, a complete version of the Decision Memo can be accessed directly on the Web at http://ia.ita.doc.gov/frn/index.html, under the heading “October 2005.” The paper copy and electronic version of the Decision Memo are identical in content.

Final Results of Review

We determine that revocation of the antidumping duty order on sparklers from China would likely lead to continuation or recurrence of dumping at the following weighted-average percentage margins:

Manufacturers/Exporters/Producers | Weighted average margin (percent)
Guangxi Native Produce Import & Export Corporation, Behai Fireworks and Firecrackers Branch | 41.75
Hunan Provincial Firecrackers & Fireworks Import & Export Corporation | 93.54
Jiangxi Native Produce Import & Export Corporation, Guangzhou Fireworks Company | 93.54
China-wide rate | 93.54

This notice also serves as the only reminder to parties subject to administrative protective order (“APO”) of their responsibility concerning the return or destruction of proprietary information disclosed under APO in accordance with section 351.305 of the Department's regulations. Timely notification of the return or destruction of APO materials or conversion to judicial protective order is hereby requested. Failure to comply with the regulations and terms of an APO is a violation which is subject to sanction.

We are issuing and publishing these results and notice in accordance with sections 751(c), 752, and 777(i)(1) of the Act.

Dated: September 29, 2005.
Barbara E. Tillman,
Acting Assistant Secretary for Import Administration.

[FR Doc. E5-5513 Filed 10-5-05; 8:45 am]

BILLING CODE 3510-DS-P